SOCIAL SECURITY ADMINISTRATION

Agency Information Collection Activities: Comment Request

The Social Security Administration (SSA) publishes a list of information collection packages that will require clearance by the Office of Management and Budget (OMB) in compliance with Public Law (Pub. L.) 104-13, the Paperwork Reduction Act of 1995, effective October 1, 1995. The information collection packages included in this notice are for new information collections and revisions to OMB-approved information collections.

SSA is soliciting comments on the accuracy of the Agency's burden estimate; the need for the information; its practical utility; ways to enhance its quality, utility and clarity; and ways to minimize the burden on respondents, including the use of automated collection techniques or other forms of information technology. Submit written comments and recommendations regarding the information collection(s) to the SSA Reports Clearance Officer. Mail, fax or e-mail the information to the address and fax number listed below: (SSA), Social Security Administration, DCBFM, Attn: Reports Clearance Officer, 1333 Annex Building, 6401 Security Blvd., Baltimore, MD 21235, Fax: 410-965-6400, E-mail address: OPLM.RCO@ssa.gov.

The information collections listed below are pending at SSA. SSA will submit them to OMB within 60 days from the date of this notice. Therefore, submit your comments to SSA within 60 days from the date of this publication. You can obtain copies of the collection instruments by calling the SSA Reports Clearance Officer at 410-965-0454 or by writing to the address listed above.

1. Social Security Benefits Application (Internet, Retirement Survivor & Disability)—20 CFR 404.310-.311, 404.315-.322, 404.330-.333, 404.601.-.603, 404.1501-.1512, Subpart D, Subpart G & Subpart P—0960-0618. Members of the public seeking Social Security benefits must first file an application for the desired type of payment. The Internet Social Security Benefits Application (ISBA) is an online system that allows members of the public to apply electronically for Retirement Insurance Benefits, Disability Insurance Benefits, and Spouse's Insurance Benefits. This information collection includes the: (1) ISBA; (2) paper forms (forms SSA-1, SSA-2, and SSA-16) for these various benefits; and (3) Modernized Claims System for these benefits, which allows SSA field office employees to enter information in an application system during interviews with applicants in a direct input process. For each part of this information collection, applicants are asked only those questions that are relevant to the specific type of benefit they are seeking. This information collection request (ICR) is for changes we are making to the ISBA application, including: (1) the addition of new race/ethnicity questions; (2) the ability for third parties to complete applications in ISBA; and (3) redesign changes that will make the application less time-consuming. The respondents are applicants for Retirement, Disability, or Spouse's Insurance Benefits or their third-party representatives.

Type of Request: Revision to an OMB-approved information collection.

ISBA Burden Information
Form type | Number of respondents | Frequency of response | Average burden per response (minutes) | Total burden (hours)
ISBA 3rd Party | 28,118 | 1 | 5 | 7,030
ISBA Applicant after 3rd Party Completion | 28,118 | 1 | 5 | 2,343
First Party ISBA | 541,851 | 1 | 15 | 135,463
Totals | 598,087 |  |  | 144,836

Paper Forms/Accompanying MCS Screens Burden Information
Collection method | Number of respondents | Frequency of response | Average burden per response (minutes) | Total burden (hours)
SSA-1
MCS | 172,200 | 1 | 11 | 31,750
MCS/Signature Proxy | 1,549,800 | 1 | 10 | 258,300
Paper | 21,000 | 1 | 11 | 3,850
Totals | 1,743,000 |  |  | 293,900
SSA-2
MCS | 36,860 | 1 | 15 | 9,215
MCS/Signature Proxy | 331,740 | 1 | 14 | 77,406
Paper | 3,800 | 1 | 15 | 950
Totals | 372,400 |  |  | 87,571
SSA-16
MCS | 218,657 | 1 | 20 | 72,886
MCS/Signature Proxy | 1,967,913 | 1 | 19 | 623,172
Paper | 24,161 | 1 | 20 | 8,054
Totals | 2,210,732 |  |  | 704,112

2. Race/Ethnicity Collection System—0960-NEW. Currently, SSA has no reliable, statistically valid means of capturing race/ethnicity data in our core business process. While SSA collects some race/ethnicity data on Form SS-5 (OMB No. 0960-0066), the Application for Social Security Card, SSA does not receive the data through other means of enumerating individuals, such as the Enumeration at Birth and Enumeration at Entry processes. Moreover, SSA does not collect it during the disability application process. Adding race/ethnicity to SSA's benefits applications will give us data we can use to ensure the benefits decision process is being conducted in a fair manner.

This ICR is for the Race/Ethnicity questions. Note that OMB established the categories of racial/ethnic choices and the descriptions we use. We modified our proposed instructions and explanations to the public based on feedback we received during public focus groups (conducted under the aegis of OMB No. 0960-0765). The respondents are Title II and Title XVI claimants.

Type of Request: New information collection.

Number of Respondents: 7,870,538.

Frequency of Response: 1.

Average Burden Per Response: 3 minutes.

Estimated Annual Burden: 393,527.

Dated: March 17, 2008.
Elizabeth A. Davidson,
Reports Clearance Officer, Social Security Administration.

[FR Doc. E8-5716 Filed 3-20-08; 8:45 am]

BILLING CODE 4191-02-P